DEPARTMENT OF HOMELAND SECURITY

Federal Emergency Management Agency

44 CFR Part 67

[Docket ID FEMA-2014-0002]

Final Flood Elevation Determinations

AGENCY: Federal Emergency Management Agency, DHS.

ACTION: Final rule.

SUMMARY: Base (1-percent-annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and 90 days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Dated: October 31, 2014.
Roy E. Wright,
Deputy Associate Administrator for Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground ‸Elevation in meters (MSL) Modified | Communities affected
Platte County, Missouri, and Incorporated Areas
Docket Nos.: FEMA-B-1178
Bear Creek | Approximately 1,110 feet downstream of Main Street | +781 | City of Weston, Unincorporated Areas of Platte County.
| Approximately 0.76 mile upstream of Highway 45 | +804
Bee Creek | Approximately 0.83 mile downstream of the Bleazard Branch confluence | +863 | City of Dearborn, Unincorporated Areas of Platte County.
| Approximately 0.74 mile upstream of Maple Leaf Road | +883
Bee Creek Tributary | At the Bee Creek confluence | +878 | City of Dearborn, Unincorporated Areas of Platte County.
| Approximately 1,325 feet upstream of Interurban Road | +889
Benner Branch | At the Bear Creek confluence | +783 | City of Weston.
| Approximately 75 feet upstream of Highway 45 | +803
Brills Creek | At the Benner Branch confluence | +791 | City of Weston, Unincorporated Areas of Platte County.
| Approximately 150 feet upstream of Highway 45 | +814
Brush Creek | At the downstream side of Northwest 76th Street | +792 | City of Parkville, Unincorporated Areas of Platte County.
| Approximately 1,500 feet upstream of State Highway 152 | +820
Burlington Creek | At the Missouri River confluence | +759 | City of Riverside, Unincorporated Areas of Platte County.
| Approximately 850 feet upstream of North Helena Avenue | +800
Burlington Creek Tributary 2 | Approximately 950 feet upstream of Northwest Platte Drive | +764 | City of Riverside, Unincorporated Areas of Platte County.
| Approximately 1,275 feet upstream of Northeast Platte Drive | +768
East Creek | At the Line Creek confluence | +768 | City of Riverside.
| Approximately 100 feet downstream of Northwest Vivion Road | +769
First Creek | At the Clay County boundary | +864 | Unincorporated Areas of Platte County.
| Approximately 0.82 mile downstream of Northwest 128th Street | +895
Grove Creek | Approximately 0.74 mile downstream of Platte Avenue | +815 | City of Edgerton, Unincorporated Areas of Platte County.
| Approximately 150 feet upstream of State Highway Z | +848
Jumping Branch | At the Line Creek confluence | +756 | City of Riverside, Village of Houston Lake.
| Approximately 200 feet upstream of I-635 | +819
Line Creek | At the Missouri River confluence | +756 | City of Northmoor, City of Riverside.
| Approximately 300 feet downstream of I-29 | +772
Line Creek Tributary 2 | Approximately 650 feet downstream of Northwest South Shore Drive | +877 | City of Lake Waukomis.
| At the downstream side of Northwest South Shore Drive | +937
Missouri River | Approximately 850 feet upstream of the Clay County boundary | +756 | Village of Iatan, City of Parkville, City of Riverside, City of Weston, Unincorporated Areas of Platte County.
| Approximately 0.53 mile downstream of the Buchanan County boundary | +791
Platte River | At the Missouri River confluence | +769 | City of Platte City, City of Tracy, Unincorporated Areas of Platte County, Village of Farley.
| Approximately 0.48 mile upstream of I-29 | +782
Rush Creek | At the Missouri River confluence | +760 | City of Parkville, Unincorporated Areas of Platte County.
| Approximately 0.56 mile upstream of the Walnut Creek confluence | +771
Second Creek | Approximately 750 feet downstream of State Highway 92 | +822 | Unincorporated Areas of Platte County.
| Approximately 3 miles downstream of State Highway 291 | +881
Todd Creek | Approximately 1,600 feet downstream of Water Treatment Plant Road | +822 | Unincorporated Areas of Platte County.
| Approximately 1,400 feet downstream of Water Treatment Plant Road | +822
Walnut Creek | At the Rush Creek Confluence | +768 | City of Parkville, Unincorporated Areas of Platte County.
| Approximately 1,600 feet upstream of Northwest Eastside Drive | +876
Wells Branch | At the Bear Creek confluence | +781 | City of Weston, Unincorporated Areas of Platte County.
| Approximately 150 feet upstream of County Road JJ | +830
White Branch | At the Rush Creek confluence | +760 | City of Parkville.
| Approximately 0.67 mile upstream of East 6th Street | +855
Wildcat Branch | Approximately 950 feet upstream of the Todd Creek confluence | +856 | Village of Ferrelview.
| Approximately 0.46 mile upstream of I-435 | +945
* National Geodetic Vertical Datum.
+ North American Vertical Datum.
# Depth in feet above ground.
‸ Mean Sea Level, rounded to the nearest 0.1 meter.
ADDRESSES:
City of Dearborn:
Maps are available for inspection at City Hall, 101 3rd Street, Dearborn, MO 64439.
City of Edgerton:
Maps are available for inspection at City Hall, 411 Front Street, Edgerton, MO 64444.
City of Lake Waukomis:
Maps are available for inspection at City Hall, 1147 Northwest South Shore Drive, Lake Waukomis, MO 64151.
City of Northmoor:
Maps are available for inspection at City Hall, 4907 Northwest Waukomis Drive, Northmoor, MO 64151.
City of Parkville:
Maps are available for inspection at City Hall, 8880 Clark Avenue, Parkville, MO 64152.
City of Platte City:
Maps are available for inspection at City Hall, 400 Main Street, Platte City, MO 64079.
City of Riverside:
Maps are available for inspection at City Hall, 2950 Northwest Vivion Road, Riverside, MO 64150.
City of Tracy:
Maps are available for inspection at City Hall, 208 2nd Street, Tracy, MO 64079.
City of Weston:
Maps are available for inspection at City Hall, 300 Main Street, Weston, MO 64098.
Unincorporated Areas of Platte County:
Maps are available for inspection at the Platte County Courthouse, 415 3rd Street, Suite 115, Platte City, MO 64079.
Village of Farley:
Maps are available for inspection at City Hall, 1116 River Road, Farley, MO 64028.
Village of Ferrelview:
Maps are available for inspection at City Hall, 205 Northwest Heady Avenue, Ferrelview, MO 64163.
Village of Houston Lake:
Maps are available for inspection at City Hall, 5417 Northwest Adrian Street, Houston Lake, MO 64151.
Village of Iatan:
Maps are available for inspection at City Hall, 125 Main Street, Iatan, MO 64098.

[FR Doc. 2014-29090 Filed 12-10-14; 8:45 am]

BILLING CODE 9110-12-P